NUCLEAR REGULATORY COMMISSION

Notice of Availability of Nureg-0725, Revision 14, “Public Information Circular for Shipments of Irradiated Reactor Fuel”

AGENCY: U.S. Nuclear Regulatory Commission (NRC).

ACTION: Notice of Availability.

SUMMARY: The U.S. Nuclear Regulatory Commission (NRC) has updated NUREG-0725, “Public Information Circular for Shipments of Irradiated Reactor Fuel.” This document provides information on shipments of irradiated reactor fuel (spent fuel) that are subject to regulation by the NRC.

ADDRESSES: Copies are available in the Commission's Public Document Room (PDR) located at One White Flint North, 11555 Rockville Pike (first floor), Rockville, Maryland, 20852-2738. This document may be accessed through the NRC Public Electronic Reading Room on the Internet at http://www.nrc.gov/reading-rm/doc-collections/nuregs or using the NRC Agencywide Document Access and Management System (ADAMS), which provides both text and image files of NRC public documents at http://www.nrc.gov/reading-rm/adams.html under ADAMS Accession Number ML061780640. Persons who do not have access to ADAMS or who encounter problems in accessing the documents located in ADAMS should contact the NRC PDR reference staff at 1-800-397-4209 or 301-415-4737, or by e-mail at pdr@nrc.gov.

FOR FURTHER INFORMATION CONTACT: Ms. Susan Bagley, Office of Nuclear Security and Incident Response, Mail Stop T-4D8, U.S. Nuclear Regulatory Commission, Washington, DC, 20555-0001, telephone 301-415-5378, and e-mail shb@nrc.gov.

SUPPLEMENTARY INFORMATION: Public Information Circular for Shipments of Irradiated Reactor Fuel The NRC staff has updated NUREG-0725 to provide a brief accounting of spent fuel shipment safety and safeguards requirements of a general interest, a summary of data for 1979-2005 highway and rail shipments and a listing, by State, of recent and expired highway and railway shipment routes. The enclosed route information reflects specific NRC approvals that the agency has granted in response to requests for shipments of spent fuel. This publication does not constitute authority for licensees, carriers or other persons to use the routes to ship spent fuel, other categories of nuclear waste, or other radioactive materials.

Dated at Rockville, Maryland, this 3rd day of November, 2006.
For The Nuclear Regulatory Commission.
Patricia K. Holahan,
Director, Division of Security Policy, Office of Nuclear Security and Incident Response.

[FR Doc. E6-19371 Filed 11-15-06; 8:45 am]

BILLING CODE 7590-01-P